DEPARTMENT OF ENERGY

Federal Energy Regulatory Commission

Combined Notice of Filings #1

Take notice that the Commission received the following exempt wholesale generator filings:

Docket Numbers: EG25-425-000.

Applicants: Ellsworth Energy Storage, LLC.

Description: Ellsworth Energy Storage, LLC submits Notice of Self-Certification of Exempt Wholesale Generator Status.

Filed Date: 8/4/25.

Accession Number: 20250804-5120.

Comment Date: 5 p.m. ET 8/25/25.

Docket Numbers: EG25-426-000.

Applicants: Carousel Wind III, LLC.

Description: Carousel Wind III, LLC submits Notice of Self-Certification of Exempt Wholesale Generator Status.

Filed Date: 8/4/25.

Accession Number: 20250804-5128.

Comment Date: 5 p.m. ET 8/25/25.

Docket Numbers: EG25-427-000.

Applicants: Carousel Wind IV, LLC.

Description: Carousel Wind IV, LLC submits Notice of Self-Certification of Exempt Wholesale Generator Status.

Filed Date: 8/4/25.

Accession Number: 20250804-5129.

Comment Date: 5 p.m. ET 8/25/25.

Take notice that the Commission received the following electric rate filings:

Docket Numbers: ER10-2475-038; ER10-1520-024; ER10-1521-024; ER10-2474-037; ER10-3246-031; ER11-4666-011; ER11-4667-011; ER12-295-010; ER13-1266-058; ER15-2211-055; ER22-1385-018; ER23-674-014; ER23-676-014; ER24-1587-007.

Applicants: AlbertaEx, L.P., BHE Power Watch, LLC, BHE Wind Watch, LLC, BHER Market Operations, LLC., MidAmerican Energy Services, LLC, CalEnergy, LLC, BHE Rim Rock Wind, LLC, BHE Glacier Wind 2, LLC, LLC, BHE Glacier Wind 1, LLC, PacifiCorp, Sierra Pacific Power Company, Occidental Power Marketing, L.P., Occidental Power Services, Inc., Nevada Power Company.

Description: Notice of Non-Material Change in Status of Nevada Power Company, et al.

Filed Date: 7/31/25.

Accession Number: 20250731-5266.

Comment Date: 5 p.m. ET 8/21/25.

Docket Numbers: ER25-2454-001.

Applicants: Midcontinent Independent System Operator, Inc.

Description: Compliance filing: 2025-08-04_Compliance Att X—Expedited Resource Addition Study (ERAS) to be effective 8/6/2025.

Filed Date: 8/4/25.

Accession Number: 20250804-5046.

Comment Date: 5 p.m. ET 8/25/25.

Docket Numbers: ER25-2512-001.

Applicants: Faraday Solar B LLC.

Description: Tariff Amendment: Amendment to Faraday Solar B MBR Application to be effective 6/15/2025.

Filed Date: 8/4/25.

Accession Number: 20250804-5139.

Comment Date: 5 p.m. ET 8/25/25.

Docket Numbers: ER25-3076-000.

Applicants: Arlington Valley Solar Energy, LLC.

Description: Initial Rate Filing: Market Based Rate to be effective 8/4/2025.

Filed Date: 8/1/25.

Accession Number: 20250801-5193.

Comment Date: 5 p.m. ET 8/22/25.

Docket Numbers: ER25-3077-000.

Applicants: Entergy Arkansas, LLC.

Description: 205(d) Rate Filing: State Tax Rate Change ADIT to be effective 10/1/2025.

Filed Date: 8/1/25.

Accession Number: 20250801-5198.

Comment Date: 5 p.m. ET 8/22/25.

Docket Numbers: ER25-3078-000.

Applicants: Kearsarge Orleans BESS LLC.

Description: Initial Rate Filing: KS_Orleans_BESS_MBRA_App to be effective 10/1/2025.

Filed Date: 8/1/25.

Accession Number: 20250801-5205.

Comment Date: 5 p.m. ET 8/22/25.

Docket Numbers: ER25-3079-000.

Applicants: Kearsarge Sterling LLC.

Description: Initial Rate Filing: KS_Sterling_MBRA_App to be effective 10/1/2025.

Filed Date: 8/4/25.

Accession Number: 20250804-5001.

Comment Date: 5 p.m. ET 8/25/25.

Docket Numbers: ER25-3080-000.

Applicants: Southwest Power Pool, Inc.

Description: Tariff Amendment: 3390 SWPA & GridLiance High Plains Inter Agr Cancellation to be effective 7/31/2025.

Filed Date: 8/4/25.

Accession Number: 20250804-5009.

Comment Date: 5 p.m. ET 8/25/25.

Docket Numbers: ER25-3082-000.

Applicants: Southern California Edison Company.

Description: Notice of Termination of Interconnection Agreement of Southern California Edison Company.

Filed Date: 7/30/25.

Accession Number: 20250730-5233.

Comment Date: 5 p.m. ET 8/20/25.

Docket Numbers: ER25-3083-000.

Applicants: Southern California Edison Company.

Description: Notice of Termination of Interconnection Agreement of Southern California Edison Company.

Filed Date: 7/30/25.

Accession Number: 20250730-5234.

Comment Date: 5 p.m. ET 8/20/25.

Docket Numbers: ER25-3084-000.

Applicants: Ameren Illinois Company, Ameren Transmission Company of Illinois.

Description: 205(d) Rate Filing: Ameren Transmission Company of Illinois submits tariff filing per 35.13(a)(2)(iii: Filing of a Joint Use Agreement to be effective 10/4/2025.

Filed Date: 8/4/25.

Accession Number: 20250804-5130.

Comment Date: 5 p.m. ET 8/25/25.

Docket Numbers: ER25-3085-000.

Applicants: Ameren Illinois Company.

Description: 205(d) Rate Filing: Filing of a Certificate of Concurrence to be effective 10/4/2025.

Filed Date: 8/4/25.

Accession Number: 20250804-5136.

Comment Date: 5 p.m. ET 8/25/25.

Take notice that the Commission received the following electric securities filings:

Docket Numbers: ES25-54-000.

Applicants: AEP Texas Inc.

Description: Application Under Section 204 of the Federal Power Act for Authorization to Issue Securities of AEP Texas Inc.

Filed Date: 7/31/25.

Accession Number: 20250731-5268.

Comment Date: 5 p.m. ET 8/21/25.

Take notice that the Commission received the following electric reliability filings:

Docket Numbers: RR25-1-001.

Applicants: North American Electric Reliability Corporation.

Description: Compliance Filing of North American Electric Reliability Corporation in Response to the May 20, 2025 Commission Order.

Filed Date: 7/31/25.

Accession Number: 20250731-5267.

Comment Date: 5 p.m. ET 8/21/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: August 4, 2025.
Debbie-Anne A. Reese,
Secretary.

[FR Doc. 2025-15003 Filed 8-6-25; 8:45 am]

BILLING CODE 6717-01-P